DEPARTMENT OF AGRICULTURE

Forest Service

36 CFR Parts 212, 261, and 295

RIN 0596—AB67

Administration of the Forest Development Transportation System; Prohibitions; Use of Motor Vehicles Off Forest Service Roads

AGENCY: Forest Service, USDA.

ACTION: Proposed rule; extension of public comment period.

SUMMARY: On March 3, 2000, in Part III, of the Federal Register, the Forest Service published a proposed rule revising regulations concerning the development, use, maintenance, and management of the national forest transportation system (65 FR 11680). A number of organizations have requested an extension of the public comment period. In considering these requests, the agency has determined that the public initially had difficulty obtaining a copy of the proposed rule and accompanying documents. Additionally, the agency has concluded that a limited extension will not impede adoption of the final rule. Therefore, the agency is extending the comment period for 15 calendar days. Because the proposed rule was accompanied by a related proposed administrative policy, the agency, by separate notice in today's Federal Register, also is extending the comment period on the proposed policy for 15 calendar days.

DATES: Comments must be received in writing by May 17, 2000.

ADDRESSES: Send written comments to USDA, CAET, Attention: Roads, P. O. Box 221090, Salt Lake City, UT 84122.

Send comments electronically to roads/wo_caet-slc@fs.fed.us.

All comments received, including names and addresses when provided, are placed in the record and are available for public inspection and copying at Forest Service, 201 14th Street SW, Washington, D.C. 20250. Persons wishing to inspect the comments are encouraged to call 202-205-1400 to facilitate building entrance.

FOR FURTHER INFORMATION CONTACT: Heidi Valetkevitch, Office of Communication, 202-205-0914.

Dated: April 24, 2000.
James R. Furnish,
Deputy Chief, National Forest System.

[FR Doc. 00-10656 Filed 4-27-00; 8:45 am]

BILLING CODE 3410-11-P